DEPARTMENT OF ENERGY

[OE Docket No. EA-414-A]

Application To Export Electric Energy; Roctop Investments Inc.

AGENCY: Office of Electricity, Department of Energy.

ACTION: Notice of application.

SUMMARY: Roctop Investments Inc. (Applicant or Roctop) has applied for renewal of its authorization to transmit electric energy from the United States to Canada pursuant to the Federal Power Act (FPA).

DATES: Comments, protests, or motions to intervene must be submitted on or before September 21, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the FPA (16 U.S.C. 824a(e)).

On September 29, 2015, DOE issued Order EA-414, which authorized Roctop to transmit electric energy from the United States to Canada for a five-year term using existing international transmission facilities appropriate for open access. This authorization expires on September 29, 2020. On July 29, 2020, Roctop filed an application with DOE (Application or App.) for renewal of the export authorization contained in Order No. EA-414.

Roctop states that it “is a Canadian company, created under a Canadian Federal Charter, with its principal place of business in Lefaivre, Ontario.” App. at 2. Roctop adds that it “does not have any affiliates or upstream owners that possess any ownership interest or have involvement in any other company that is a traditional utility or that owns, operates, or controls any electric generation, transmission, or distribution facilities.” Id.

Roctop further states that it “will purchase power to be exported from a variety of sources such as power marketers, independent power producers, or U.S. electric utilities and federal power marketing entities as those terms are defined in Sections 3(22) and 3(19) of the FPA.” App. at 3. Roctop contends that “such power is surplus to the system of the generator and, therefore, the electric power that Roctop will export on either a firm or interruptible basis will not impair the sufficiency of the electric power supply within the U.S.” Id. at 3-4.

Roctop states that its exports “will not exceed the export limits for the [permitted] facilities, or otherwise cause a violation of the terms and conditions” that apply to the use of those facilities.” App. at 5. Roctop also contends that its export activity will not impede or tend to impede the coordinated use of transmission facilities under the FPA because it “has no electric power supply system on which the proposed exports could have a reliability, fuel use system or stability impact.” See id. at 3.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Roctop's application to export electric energy to Canada should be clearly marked with OE Docket No. EA-414-A. Additional copies are to be provided directly to Ruta Kalvaitis Skučas, 1875 K St. NW, Suite 700, Washington, DC 20006; rskucas@pierceatwood.com and Vincent Thellen, 139 Du Domaine Road, Lefaivre, (ON) Canada K0B 1J0; vincent@roctop.ca.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on August 17, 2020.
Christopher Lawrence,
Management and Program Analyst, Transmission Permitting and Technical Assistance, Office of Electricity.

[FR Doc. 2020-18377 Filed 8-20-20; 8:45 am]

BILLING CODE 6450-01-P